DEPARTMENT OF COMMERCE

Foreign-Trade Zones Board

[B-11-2021]

Foreign-Trade Zone (FTZ) 38—Spartanburg County, South Carolina; Authorization of Production Activity; Bosch Security Systems, LLC; (Surveillance, Detection, Evacuation, and Management Systems); Greer, South Carolina

On February 17, 2021, Bosch Security Systems, LLC submitted a notification of proposed production activity to the FTZ Board for its facility within FTZ 38 in Greer, South Carolina.

The notification was processed in accordance with the regulations of the FTZ Board (15 CFR part 400), including notice in the Federal Register inviting public comment (86 FR 11496, February 25, 2021). On June 17, 2021, the applicant was notified of the FTZ Board's decision that no further review of the activity is warranted at this time. The production activity described in the notification was authorized, subject to the FTZ Act and the FTZ Board's regulations, including Section 400.14.

Dated: June 17, 2021.
Elizabeth Whiteman,
Acting Executive Secretary.

[FR Doc. 2021-13159 Filed 6-22-21; 8:45 am]

BILLING CODE 3510-DS-P